LEGAL SERVICES CORPORATION

Request for Letters of Intent To Apply for 2016 Pro Bono Innovation Fund Grants

AGENCY: Legal Services Corporation.

ACTION: Notice.

SUMMARY: The Legal Services Corporation (LSC) issues this Notice describing the conditions under which Letters of Intent to Apply for 2016 funding will be received for the Pro Bono Innovation Fund. On December 18, 2015, Congress provided $4 million for the Pro Bono Innovation Fund through the Consolidated Appropriations Act for 2016.

DATES: Letters of Intent must be submitted by 5:00 p.m. EST on March 28, 2016.

ADDRESSES: Letters of Intent must be submitted electronically at http://lscgrants.lsc.gov.

FOR FURTHER INFORMATION CONTACT: Mytrang Nguyen, Program Counsel, Office of Program Performance, Legal Services Corporation, 3333 K Street NW., Washington, DC, 20007; (202) 295-1564 or nguyenm@lsc.gov.

SUPPLEMENTARY INFORMATION:

I. General Information

The Pro Bono Innovation Fund was created after the LSC Board of Directors formed a Pro Bono Task Force in 2011 to identify ways to better engage pro bono lawyers and other volunteers to serve low-income people. One recommendation of the Pro Bono Task Force was to create a competitive Innovation Fund grant program. On January 17, 2014, the President signed Public Law 113-76, the Consolidated Appropriations Act of 2014, which included $2.5 million in LSC's appropriation for the Pro Bono Innovation Fund. In its first year of grant making, LSC funded eleven projects seeking to address the critical legal needs of underserved populations with more pro bono volunteers, significant collaboration, and technology enhancements. The Consolidated and Further Continuing Appropriations Act, 2015, Public Law 113-235 (December 16, 2014) increased LSC's appropriation for the Pro Bono Innovation Fund to $4 million and LSC funded an additional fifteen projects in FY15. On December 18, 2015, the Consolidated Appropriations Act, 2016, Public Law 114-113 provided $4 million for the Pro Bono Innovation Fund.

In 2016, the Pro Bono Innovation Fund will continue to advance LSC's goal of increasing the quantity and quality of legal services provided to eligible people. Applicants to the Pro Bono Innovation Fund should identify the most pressing unmet client needs and how pro bono volunteers will be used to address those needs. Projects funded by the Pro Bono Innovation Fund will serve as demonstration efforts to strengthen pro bono service delivery and improve low income persons' access to high quality legal assistance through coordinated legal delivery systems.

II. Funding Opportunity Information

A. Pro Bono Innovation Fund Purpose and Key Goals

The purpose of the Pro Bono Innovation Fund is to develop and enhance pro bono programs that serve larger numbers of low-income clients and that improve the quality and effectiveness of the services clients receive by using pro bono volunteers. Projects should be innovative (new, replicable models and approaches to pro bono delivery) or replicate prior successful models.

The Pro Bono Innovation Fund is designed to address issues identified in the 2012 report of LSC's Pro Bono Task Force. The report provides a summary of findings that illustrates the current crisis in legal services and suggests ways that pro bono can be used to increase the supply of lawyers and others who are available to provide legal assistance to low-income people. The key goals of the Pro Bono Innovation Fund are to:

1. Address gaps in the delivery of legal services to low-income people

2. Engage more lawyers and other volunteers in pro bono service

3. Develop and implement new, innovative, and replicable strategies that address persistent challenges in pro bono delivery systems

B. Areas of Interest for FY 2016

LSC welcomes applications in a wide variety of areas; there are no specific areas of interest. Consistent with the key goals of the Pro Bono Innovation Fund, however, applicants are encouraged to consider developing projects that propose to replicate effective models of pro bono delivery or propose novel (and replicable) solutions to persistent challenges in their current pro bono system. Such challenges and solutions may include, but are not limited to:

• Advancing the organization's strategic imperatives by integrating volunteers into significant delivery or advocacy efforts (e.g., using law students to conduct screening and intake, expanding complex litigation or appellate practice with pro bono attorneys).

• Addressing duplicative or fractured pro bono efforts by forming partnerships with pro bono and community stakeholders or adding new partners to existing collaborations (e.g., working with state and local pro bono committees or with specialty and minority bar associations, aligning with state Access to Justice Commission initiatives, and complementing self-represented litigant efforts).

• Developing strategies to bring pro bono services to the locations and communities where clients reside or are accessing services, particularly for hard to reach populations (e.g., medical-legal partnerships, mobile or remote services for rural populations, or adopting a neighborhood).

• Developing quality controls and setting goals for timely, effective pro bono work. This can include technology solutions and/or innovative ways to provide more mentoring, training, and support for volunteers (e.g., designating experienced volunteers to mentor newer pro bono attorneys, developing process improvements to share resources through common data portals, and sharing case updates and files with shared case management systems).

C. Available Funds and Estimated Award Amounts

LSC has received an appropriation of $4 million, of which $3.8 million is available for grants in fiscal year 2016 to support Pro Bono Innovation Fund projects. In 2015, fifteen Pro Bono Innovation Fund Projects received funding with a median funding amount of $257,000. LSC recommends a minimum $50,000 request, and there is no maximum amount for Pro Bono Innovation Fund requests that are within the total funding available. LSC encourages proposals for projects that include other in-kind and cash support, although LSC has no matching requirement.

D. Project and Funding Period

Pro Bono Innovation Fund grant awards will cover either an 18- or 24- month project period. Applicants' proposals should cover the full period for which a grant award is requested. The project period is expected to commence in October 2016.

III. Grant Application Process and Letter of Intent To Apply Instructions

A. Pro Bono Innovation Fund Grant Application Process

LSC is committed to reviewing all Pro Bono Innovation Fund grant applications in a quick and thorough manner. Applicants must first submit a Letter of Intent to Apply for Funding (LOI). LSC staff will review the LOIs and notify applicants by April 25, 2016 if their LOI is selected. Applicants whose LOIs are selected will be asked to submit a detailed, full application in LSC Grants. Once LSC has received a full application from a selected applicant, the application undergoes a rigorous review process by LSC staff and external subject matter experts. LSC's President makes the final decision on funding for the Pro Bono Innovation Fund.

B. Letters of Intent To Apply for Funding Requirements and Format

The LOI should succinctly summarize in approximately three pages a proposed project's context, goals, objectives, activities, estimated budget, timeline, and evaluation plan. Applicants must submit the LOI electronically using the LSC Grants online system found at http://lscgrants.lsc.gov. They system will be live for applicants in early March 2016.

The LOI form in LSC Grants will ask each applicant the following information about the proposed project:

1. Project Description. In this section, please provide a brief description of the proposed project that includes:

• The specific client need and challenge or opportunity in the pro bono delivery system that the project will address.

• The goals and objectives of the project, the activities that make up the project, and how those activities will link to and achieve the stated goals and objectives.

• Strong indication of volunteer demand or interest in supporting the project.

• The expected impact of the project. This should include a brief explanation of the changes and outcomes that will be created as a result of the project.

2. Project Staff, Organizational Capacity, and Project Partners. Please briefly identify and describe the project team and project partners including:

• The qualifications and relevant experience of the proposed project team, any proposed partner organizations, and your organization.

• The role of your organization's executive management in the design and implementation of the project.

3. Budget and Timeline. Please provide the following information about the estimated project costs and the proposed implementation timeframe:

• Whether the proposed project will be implemented in an 18- or 24- month timeframe.

• Estimated total project cost. This includes the estimate for the Pro Bono Innovation Fund requested amount and other in-kind or cash contributions to support the project.

• List, if any, of anticipated contributions, both in-kind and monetary, of all partners involved in the project.

• List of key partners who will receive Pro Bono Innovation Fund funding, including their roles, and the estimated dollar amount or percent of budget assigned to each partner.

Please provide an estimated budget using the following form.

| Pro Bono Innovation Fund Share—estimated | Other cash or in-kind support— estimated
1. Personnel Expenses:
a. Salaries/Wages
b. Fringe Benefits
Subtotal Personnel Expenses
2. Project Expenses:
a. Travel
b. Equipment
c. Software
d. Supplies
e. Communication
f. Training
g. Evaluation
h. Other
Subtotal Project Expenses
3. Third-Party Contracts and Subgrants:
a. Contract
b. Subgrant
Subtotal Third-Party Contracts and Subgrants
Totals
Percentage of Total Project

Note: Applicants are encouraged to provide as complete an estimate as possible despite the preliminary nature of the LOI. LSC recognizes that the budget information provided is an initial estimate only and subject to change if applicants are invited to submit a full application.

C. One Project per Letter of Intent To Apply

Applicants are encouraged to propose more than project. To do so, applicants must submit a separate LOI for each project.

D. Letter of Intent To Apply Deadline

Applicants must complete and submit LOIs through http://lscgrants.lsc.gov no later than 5:00 p.m. ET, Monday, March 28, 2016. To avoid any technical difficulties or submission challenges on the day of the deadline, please allow sufficient time for your LSC Grants submission. Applicants are strongly encouraged to complete LOI submissions prior to the deadline.

LSC will provide a confirmation email for each completed electronic LOI submission. Please keep this email as verification that your LOI was received. If you do not receive an email confirmation for your LOI submission, please inquire about the status of your LOI at probonoinnovation@lsc.gov.

LSC will not accept applications submitted after the deadline unless LSC has approved a request to waive the deadline. See Section IV (D) Waiver Authority below.

E. Selection Process

Applicants must be current LSC grantees. LSC will review all LOIs to determine whether they are from eligible entities, submitted as complete in LSC Grants, and are responsive to the questions described above. Failure to meet these submission requirements may result in rejection of the LOI before substantive review.

Each LOI will then be carefully reviewed to identify those projects that address the key goals of the Pro Bono Innovation Fund. The LOIs will also be reviewed to determine the extent to which the proposed project:

• Provides a clear description of client need and the challenge in the pro bono delivery system that the project will address.

• Demonstrates is has the support of, or is viable with, the pro bono volunteers targeted for recruitment and participation in the project.

• Articulates thoughtful, appropriate, and concrete goals and activities that address the articulated need and challenges.

• Is either innovative or an appropriate replication of prior successful models.

• Has potential for client impact, strong outcomes, further replication, or scaling.

• Leverages partnerships and involves all of the appropriate parties needed to make it successful and sustainable.

• Has organizational support and capacity, and is cost-effective.

Projects that address the above criteria will be invited to submit full applications.

F. Next Steps for Successful Applicants

LSC will notify successful LOI applicants by April 25, 2016. Successful applicants will have until 5:00 p.m. ET, Monday, July 18, 2016 to complete full applications in the LSC Grants online application system.

IV. LSC Requirements and Eligibility Information

A. LSC Requirements

Pro Bono Innovation Fund grants are subject to all the requirements of the Legal Services Corporation Act of 1974 as amended (LSC Act), any applicable appropriations acts and any other applicable law, rules, regulations, policies, guidelines, instructions, and other directives of including, but not limited to: The LSC Audit Guide for Recipients and Auditors, the Accounting Guide for LSC Recipients, the CSR Handbook, the 1981 LSC Property Manual (as amended) and the Property Acquisition and Management Manual, with any amendments to the foregoing adopted before or during the period of the grant. Before submitting a Letter of Intent to Apply, applicants should be familiar with LSC's subgrant and transfer requirements at 45 CFR parts 1610 and 1627, particularly as they pertain to payments of LSC funds to other entities for programmatic activities. Termination Policies and Procedures will be same as those described in the 2015 Pro Bono Innovation Fund Grant Assurances.

B. Eligible Applicants

To be eligible for Pro Bono Innovation Fund grants, applicants must be current grantees of LSC grants for Basic Field-General, Basic Field-Migrant, or Basic Field-Native American funding. Organizations and entities that are not current LSC grantees are not eligible to apply directly to LSC for Pro Bono Innovation Fund grants. Collaborations between LSC grantees and partner organizations are strongly encouraged to enhance projects, strengthen pro bono delivery systems, and avoid duplication of services.

C. Waiver Authority

LSC, upon its own initiative or when requested, may waive provisions in this Notice at its sole discretion under extraordinary circumstances and when it is in the best interest of the eligible client community. Waivers may be granted only for requirements that are discretionary and not mandated by statute or regulation. Any request for a waiver must set forth in writing the extraordinary circumstances for the request. LSC will not consider a request to waive the deadline for an LOI unless it is received by LSC prior to the deadline.

D. Contact Information

For more information about current Pro Bono Innovation Fund projects, please contact Mytrang Nguyen, Program Counsel, (202) 295-1564 or nguyenm@lsc.gov.

If you have a general question or questions about the Pro Bono Innovation Fund application process, please email probonoinnovation@lsc.gov.

For technical questions or issues with the LSC Grants online application system, please send an email to techsupport@lsc.gov.

Dated: January 15, 2016.
Stefanie K. Davis,
Assistant General Counsel.

[FR Doc. 2016-01106 Filed 1-20-16; 8:45 am]

BILLING CODE 7050-01-P